DEPARTMENT OF DEFENSE

Office of the Secretary

Defense Health Board, Public Health Subcommittee; Notice of Federal Advisory Committee Meeting

AGENCY: Department of Defense (DoD).

ACTION: Notice of Federal Advisory Committee meeting.

SUMMARY: The Department of Defense is publishing this notice to announce that the following Federal Advisory Committee meeting of the Defense Health Board, Public Health Subcommittee will take place.

DATES:

Wednesday, June 11, 2014.

8:00 a.m.-10:00 a.m. (Open Session)

10:15 a.m.-5:00 p.m. (Administrative and Preparatory Working Meeting)

ADDRESSES: Defense Health Headquarters (DHHQ), Conference Room 3M305, 7700 Arlington Blvd., Falls Church, Virginia 22042 (escort required; see guidance in SUPPLEMENTARY INFORMATION, “Public's Accessibility to the Meeting.”)

FOR FURTHER INFORMATION CONTACT: The Director of the Defense Health Board is Ms. Christine Bader, 7700 Arlington Boulevard, Suite 5101, Falls Church, Virginia 22042, (703) 681-6653, Fax: (703) 681-9539, Christine.bader@dha.mil. For meeting information, please contact Ms. Kendal Brown, 7700 Arlington Boulevard, Suite 5101, Falls Church, Virginia 22042, Kendal.Brown.ctr@dha.mil, (703) 681-6670, Fax: (703) 681-9539.

SUPPLEMENTARY INFORMATION: This meeting is being held under the provisions of the Federal Advisory Committee Act of 1972 (5 U.S.C., Appendix, as amended), the Government in the Sunshine Act of 1976 (5 U.S.C. 552b, as amended), and 41 CFR 102-3.150, and in accordance with section 10(a)(2) of the Federal Advisory Committee Act.

Purpose of the Meeting

The purpose of the meeting is for the Public Health Subcommittee members to receive public comments concerning deployment pulmonary health during an open forum. The Subcommittee is reviewing evidence relevant to deployment-related pulmonary disease in Service members and veterans. Comments from the public range from insight on deployment-related pulmonary health issues to personal accounts and objective input.

Agenda

Pursuant to 5 U.S.C. 552b, as amended, and 41 CFR 102-3.140 through 102-3.165 and subject to availability of space, the Public Health Subcommittee meeting is open to the public from 8:00 a.m. to 10:00 a.m. on June 11, 2014. On June 11, 2014, the Public Health Subcommittee will receive public comments on deployment-related pulmonary health issues. The DFO, in conjunction with the Subcommittee Chair, may restrict speaking time per person.

Availability of Materials for the Meeting

A copy of the agenda or any updates to the agenda for the June 11, 2014 meeting, as well as any other materials presented in the meeting, may be obtained at the meeting.

Public's Accessibility to the Meeting

Pursuant to 5 U.S.C. 552b, as amended, and 41 CFR 102-3.140 through 102-3.165 and subject to availability of space, this meeting is open to the public. Seating is limited and is on a first-come basis. All members of the public who wish to attend the public meeting must contact Ms. Kendal Brown at the number listed in the section FOR FURTHER INFORMATION CONTACT no later than 12:00 p.m. on Monday, June 2 to register and make arrangements for a DHHQ escort, if necessary. Public attendees requiring escort should arrive at the DHHQ Visitor's Entrance with sufficient time to complete security screening no later than 7:30 a.m. on June 11. To complete security screening, please come prepared to present two forms of identification and one must be a picture identification card.

Special Accommodations

Individuals requiring special accommodations to access the public meeting should contact Ms. Kendal Brown at least five (5) business days prior to the meeting so that appropriate arrangements can be made.

Written Statements

Any member of the public wishing to provide comments to the DHB Public Health Subcommittee may do so in accordance with 41 CFR 102-3.105(j) and 102-3.140 and section 10(a)(3) of the Federal Advisory Committee Act, and the procedures described in this notice.

Individuals desiring to provide comments to the DHB's Public Health Subcommittee may do so by submitting a written statement to the DHB Designated Federal Officer (DFO) (see FOR FURTHER INFORMATION CONTACT). Written statements should address the following details: The issue, discussion, and a recommended course of action. Supporting documentation may also be included, as needed, to establish the appropriate historical context and to provide any necessary background information.

If the written statement is not received at least five (5) business days prior to the meeting, the DFO may choose to postpone consideration of the statement until the next open meeting.

The DFO will review all timely submissions with the Subcommittee Chair and ensure they are provided to members of the Public Health Subcommittee before the meeting that is subject to this notice. After reviewing the written comments, the President and the DFO may choose to invite the submitter to orally present their issue during an open portion of this meeting or at a future DHB meeting. The DFO, in consultation with the Subcommittee Chair, may allot time for members of the public to present their issues for review and discussion by the Public Health Subcommittee.

Dated: May 20, 2014.
Aaron Siegel,
Alternate OSD Federal Register Liaison Officer, Department of Defense.

[FR Doc. 2014-12064 Filed 5-23-14; 8:45 am]

BILLING CODE 5001-06-P